DEPARTMENT OF HEALTH AND HUMAN SERVICES

National Institutes of Health

National Cancer Institute Amended; Notice of Meeting

Notice is hereby given of a change in the meeting of the Board of Scientific Counselors for Basic Sciences National Cancer Institute, March 13, 2012, 8:30 a.m. to March 13, 2012, 4 p.m., National Institutes of Health, Building 31, 31 Center Drive, C Wing, 6th floor, Conference Rm. 6, Bethesda, MD, 20892 which was published in the Federal Register on February 7, 2012, 77FR6130.

This notice is being amended to change the times of the meeting from 8:30 a.m.-4 p.m. to 8 a.m.-3:30 p.m. The meeting is closed to the public.

Dated: February 27, 2012.
Jennifer S. Spaeth,
Director, Office of Federal Advisory Committee Policy.

[FR Doc. 2012-4882 Filed 2-29-12; 8:45 am]

BILLING CODE 4140-01-P